INTERNATIONAL TRADE COMMISSION

[USITC SE-02-034]

Sunshine Act Meeting

Agency Holding the Meeting: International Trade Commission.

Time and Date: November 14, 2002 at 10 a.m.

Place: Room 101, 500 E Street SW., Washington, DC 20436, Telephone: (202) 205-2000.

Status: Open to the public.

Matters To Be Considered: 1. Agenda for future meeting: none.

2. Minutes.

3. Ratification List.

4. Inv. No. 731-TA-1020 (Preliminary) (Barium Carbonate from China)—briefing and vote. (The Commission is currently scheduled to transmit its determination to the Secretary of Commerce on November 14, 2002; Commissioners' opinions are currently scheduled to be transmitted to the Secretary of Commerce on or before November 21, 2002).

5. Outstanding action jackets: none.

In accordance with Commission policy, subject matter listed above, not disposed of at the scheduled meeting, may be carrier over to the agenda of the following meeting.

Issued: October 29, 2002.
By order of the Commission.
Marilyn R. Abbott,
Secretary to the Commission.

[FR Doc. 02-27980 Filed 10-30-02; 11:19 am]

BILLING CODE 7020-02-M